DEPARTMENT OF JUSTICE

Notice of Lodging of Consent Decree Under the Comprehensive Environmental Response, Compensation and Liability Act

Notice is hereby given that on September 25, 2008, a proposed Consent Decree with Livingston & Company, Inc. (“Consent Decree”) in United States v. A-L Processors, f.k.a. Atlas-Lederer Co., et al., Civil Action No. C-3-91-309 was lodged with the United States District Court for the Southern District of Ohio.

In this action, the United States sought reimbursement of response costs in connection with the United Scrap Lead Superfund Site in Troy, Miami County, Ohio (“the Site”) pursuant to the Comprehensive Environmental Response, Compensation and Liability Act (“CERCLA”), 42 U.S.C. 9601 et seq. The Consent Decree resolves the United States' claims against Defendant Livingston & Company, Inc. (“Livingston”) for response costs incurred as a result of the release or threatened release of hazardous substances at the Site. This is an “ability-to-pay” settlement based on financial analyses conducted by the Department's Antitrust Corporate Finance Unit. Livingston will pay the United States $1,609,732 over a three-year period with half of the payment ($847,228) being paid within 20 days of entry of the settlement. The United States' remaining outstanding costs exceed $7.5 million and are being sought from the remaining defendants in this case. The Consent Decree also resolves the United Scrap Lead Respondent Group's (“Respondent Group”) CERCLA claims against Livingston for response costs incurred by the Respondent Group in cleaning up the Site under an earlier Consent Decree. Livingston will pay the Respondent Group $290,268 over approximately a one-year period.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer United States v. A-L Processors, f.k.a. Atlas-Lederer Co., et al., D.J. Ref. 90-11-3-279B.

The Consent Decree may be examined at the Office of the United States Attorney, Southern District of Ohio, Federal Building Room 602, 200 West Second Street, Dayton, Ohio, or at the Region 5 Office of the Environmental Protection Agency, 77 West Jackson Street, Chicago, Illinois 60604-3590. During the public comment period, the proposed Consent Decree may also be examined on the following Department of Justice Web site, to http://www.usdoj.gov/enrd/Consent_Decrees.html . A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury or, if by e-mail or fax, forward a check in that amount to the Consent Decree Library at the stated address.

William Brighton,
Assistant Chief, Environmental Enforcement Section, Environment and Natural Resources Division.

[FR Doc. E8-23744 Filed 10-7-08; 8:45 am]

BILLING CODE 4410-15-P[